DEPARTMENT OF ENERGY

Federal Energy Regulatory Commission

[Docket Nos. CP04-36-000 and CP04-41-000]

Weaver's Cove Energy L.L.C. and Mill River Pipeline L.L.C.; Notice of Public Meeting Attendance

June 22, 2004.

On Wednesday, June 30, 2004, staff of the Office of Energy Projects (OEP) will participate in a public meeting held by State Representative Joseph N. Amaral in Tiverton, Rhode Island regarding Weaver's Cove Energy, L.L.C.'s proposed liquefied natural gas (LNG) import terminal and storage facility in Fall River, Massachusetts. The public meeting will start at 7 p.m. (e.s.t.) at the Patriot's Club (formerly the Ponta Delgada Club) on 70 Shove Street in Tiverton, Rhode Island.

Magalie R. Salas,
Secretary.

[FR Doc. E4-1433 Filed 6-28-04; 8:45 am]

BILLING CODE 6717-01-P